ENVIRONMENTAL PROTECTION AGENCY

[EPA-HQ-OA-2006-0074; FRL-9316-4]

Agency Information Collection Activities; Submission to OMB for Review and Approval; Comment Request; Generic Clearance for the Collection of Qualitative Feedback on Agency Service Delivery (New)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for two new collections. The ICRs, which are abstracted below, describe the nature of the information collection and its estimated burden and cost.

DATES: Additional comments may be submitted on or before July 8, 2011.

ADDRESSES: Submit your comments, referencing Docket ID No. EPA-HQ-OA-2006-0074 to (1) EPA online using http://www.regulations.gov (our preferred method), by e-mail to docket.oei@epa.gov, or by mail to: EPA Docket Center, Environmental Protection Agency, OEI Docket, Mailcode: 28221T,1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Michelle Mandolia, Office of Policy [Mail Code 1807T], Environmental Protection Agency, 1200 Pennsylvania Ave., NW., Washington, DC 20460; telephone number: 202-566-2198; fax number: 202-566-2200; e-mail address: mandolia.michelle@epa.gov.

SUPPLEMENTARY INFORMATION: EPA has submitted the following ICRs to OMB for review and approval according to the procedures prescribed in 5 CFR 1320.12. On December 22, 2010 (75 FR 80542), EPA sought comments on this ICR pursuant to 5 CFR 1320.8(d). EPA received no comments during the comment period. Any additional comments on these ICRs should be submitted to EPA and OMB within 30 days of this notice.

EPA has established a public docket for this ICR under Docket ID No. EPA-HQ-OA-2006-0074, which is available for online viewing at http://www.regulations.gov, or in person viewing at the OEI Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the OEI Docket is 202-566-1752.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI) or other information whose public disclosure is restricted by statute. For further information about the electronic docket, go to http://www.regulations.gov.

Title: Generic Clearance for the Collection of Qualitative Feedback on Agency Service Delivery (New).

ICR numbers: EPA ICR Nos. 2434.01 and 2435.01, OMB Control Nos. 2010-NEW.

ICR Status: These are new ICRs. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under these generic clearances will provide useful information, but it will not yield data that can be generalized to the overall population. This type of generic clearance for qualitative information will not be used for quantitative information collections that are designed to yield reliably actionable results, such as monitoring trends over time or documenting program performance.

Burden Statement: The annual public reporting and recordkeeping burden for this collection of information is estimated to average 5.3 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Individuals and Households, Businesses and Organizations, State, Local or Tribal Governments.

Estimated Number of Respondents (for each ICR): 15,720.

Frequency of Response: Once, On occasion.

Estimated Total Annual Hour Burden (for each ICR): 1,386.

Estimated Total Annual Cost: $0, includes $0 annualized capital or O&M costs.

Changes in the Estimates: These are new ICRs.

Dated: May 31, 2011.
John Moses,
Director, Collection Strategies Division.

[FR Doc. 2011-14194 Filed 6-7-11; 8:45 am]

BILLING CODE 6560-50-P